DEPARTMENT OF THE INTERIOR

Bureau of Land Management

[NV-930-1430-01; CC-014233, CC-015743]

Notice of Opening Order of Reconveyed Land, Nevada

AGENCY: Bureau of Land Management, Interior.

ACTION: Notice.

SUMMARY: This notice opens approximately 120 acres of reconveyed land to appropriation under the public land laws and the general mining laws.

EFFECTIVE DATE: June 21, 2004.

FOR FURTHER INFORMATION CONTACT: Realty Specialist Barbara Kehrberg, Winnemucca Field Office, Bureau of Land Management, 5100 East Winnemucca Boulevard, Winnemucca Nevada 89445 (775) 623-1500.

SUPPLEMENTARY INFORMATION: The lands described below were reconveyed to the United States on July 11, 1929, and March 31, 1916. The parcels were never opened to entry and have had a defacto withdrawal in effect since the time of reconveyance.

Mount Diablo Meridian, Nevada

CC-014233:

T. 28 N., R. 34 E.,

Sec. 1: SE¼SE¼.

CC-015743:

T. 27 N., R. 34 E.,

Sec. 13: S½S½NE¼, N½N½SE¼.

The areas described contain 120.00 acres, more or less.

At 10 a.m. on July 21, 2004, the above described land will be open to appropriation under the public land laws and mining laws, subject to valid existing rights and any other segregations of record.

Appropriation of any of the land described in this order under the public land laws and general mining laws prior to the date and time of restoration is unauthorized.

Any such attempted appropriation, including attempted adverse possession under 30 U.S.C. 38, shall vest no right against the United States. Acts required to establish a location and to initiate a right of possession are governed by State law where not in conflict with Federal law. The Bureau of Land Management will not intervene in the disputes between rival locators over possessory rights because Congress has provided for such determination in local courts.

Dated: May 3, 2004.
Terry A. Reed,
Field Manager, Winnemucca.

[FR Doc. 04-13911 Filed 6-18-04; 8:45 am]

BILLING CODE 4310-HC-P